DEPARTMENT OF AGRICULTURE

Office of the Under Secretary, Research, Education, and Economics; Notice of the Advisory Committee on Agricultural Biotechnology Meeting

AGENCY: Agricultural Research Service, Agriculture.

ACTION: Notice of Meeting.

SUMMARY: In accordance with the Federal Advisory Committee Act, 5 U.S.C. App., the United States Department of Agriculture announces a meeting of the Advisory Committee on Agricultural Biotechnology (ACAB).

SUPPLEMENTARY INFORMATION: The third meeting of the ACAB has been scheduled for November 29-30, 2000. The topics to be discussed will include: (1) The USDA's public seed breeding program and plant germplasm repositories; (2) impacts of gene flow from transgenic crops to other plants and current and potential USDA roles in addressing them; and (3) biotechnology budget priorities for FY 2002. There will in addition be several updates on current biotechnology developments, including the Starlink® corn situation, and on ongoing USDA biotechnology-related activities.

Background information regarding the work of the ACAB is available on the USDA web site at http://www.usda.gov/agencies/biotech/acab.html. Members of the public who wish to make oral statements should also inform Dr. Schechtman in writing or via E-mail at the indicated addresses at least three business days before the meeting. On November 29, 2000, if time permits, reasonable provision will be made for oral presentations of no more than five minutes each in duration. Written statements may be submitted to the Committee before or after the meeting at the address indicated below.

DATES: The meeting will be held in the Empire Room in the Omni Shoreham Hotel, 2500 Calvert Street, NW, Washington, DC 20008, on November 29-30, 2000. The meeting is scheduled to run from 8:30 am until 6:30 pm on November 29 and 8:30 am until 5:30 pm on November 30. The meeting will be open to the public, but space is limited. If you would like to attend the meetings, you must register by contacting Ms. Dianne Harmon at (202) 720-4074, by fax at (202) 720-3191 or by E-mail at dharmon@ars.usda.gov at least 7 days prior to the meeting. Please provide your name, title, business affiliation, address, telephone, and fax number when you register. If you require a sign language interpreter or other special accommodation due to disability, please indicate those needs at the time of registration.

FOR FURTHER INFORMATION CONTACT: Michael Schechtman, Designated Federal Official, Office of the Deputy Secretary, USDA, 202B Jamie L. Whitten Federal Building, 12th and Independence Avenue, SW, Washington, DC 20250; Telephone (202) 720-3817; Fax (202) 690-4265; E-mail mschechtman@ars.usda.gov.

Dated: November 8, 2000.
Richard M. Parry, Jr.,
Acting Administrator.

[FR Doc. 00-29116 Filed 11-13-00; 8:45 am]

BILLING CODE 3410-03-P